ENVIRONMENTAL PROTECTION AGENCY

40 CFR Part 52

[EPA-R09-OAR-2015-0240 FRL-9935-55-Region 9]

Approval of Implementation Plans; Arizona, Phoenix-Mesa; 2008 Ozone Standard Requirements

AGENCY: Environmental Protection Agency (EPA).

ACTION: Proposed rule.

SUMMARY: The Environmental Protection Agency (EPA) is proposing to approve revisions to the Arizona State Implementation Plan (SIP) concerning the emission inventory, emission statements, reasonably available control technology corrections and the vehicle inspection and maintenance requirements for the Phoenix-Mesa 2008 eight-Hour Ozone National Ambient Air Quality Standard (NAAQS) Marginal nonattainment area. We are approving these revisions under the Clean Air Act.

DATES: Any comments on this proposal must arrive by November 16, 2015.

ADDRESSES: Submit comments, identified by docket number EPA-R09-OAR-2015-0240, by one of the following methods:

1. Federal eRulemaking Portal: www.regulations.gov. Follow the on-line instructions.

2. Email: levin.nancy@epa.gov.

3. Mail or deliver: Nancy Levin (Air-4), U.S. Environmental Protection Agency Region IX, 75 Hawthorne Street, San Francisco, CA 94105-3901.

Instructions: Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make. For additional submission methods, the full EPA public comment policy, and general guidance on making effective comments, please visit http://www.epa.gov/dockets/comments.html.

Docket: Generally, documents in the docket for this action are available electronically at www.regulations.gov or in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Nancy Levin, EPA Region IX, (415) 972-3848, Levin.nancy@epa.gov.

SUPPLEMENTARY INFORMATION: Throughout this document, “we,” “us” and “our” refer to the EPA. This proposal addresses revisions to the Arizona SIP concerning the emission inventory, emission statements, reasonably available control technology corrections and the vehicle inspection and maintenance requirements for the Phoenix-Mesa 2008 eight-Hour Ozone NAAQS Marginal nonattainment area. In the Rules and Regulations section of this Federal Register, we are approving these revisions in a direct final action without prior proposal because we believe these SIP revisions are not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

List of Subjects in 40 CFR Part 52

Environmental protection, Air pollution control, Incorporation by reference, Intergovernmental relations, Ozone, Reporting and recordkeeping requirements, Volatile organic compounds.

Dated: September 25, 2015.
Jared Blumenfeld,
Regional Administrator, Region IX.

[FR Doc. 2015-26024 Filed 10-15-15; 8:45 am]

BILLING CODE 6560-50-P